INTERNATIONAL TRADE COMMISSION

[Investigation No. 337-TA-973]

Certain Wearable Activity Tracking Devices, Systems, and Components Thereof; Commission Determination Not To Review an Initial Determination Granting Complainant's Unopposed Motion To Terminate the Investigation in Its Entirety Based Upon Withdrawal of the Complaint; Termination of the Investigation

AGENCY: U.S. International Trade Commission.

ACTION: Notice.

SUMMARY: Notice is hereby given that the U.S. International Trade Commission has determined not to review an initial determination (“ID”) (Order No. 27) of the presiding administrative law judge (“ALJ”) granting an unopposed motion to terminate the investigation in its entirety based upon withdrawal of the complaint.

FOR FURTHER INFORMATION CONTACT: Panyin A. Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Inv. No. 337-TA-973 on December 7, 2015, based on a complaint filed by Fitbit, Inc. of San Francisco, California (“Fitbit”). 80 FR 76040 (Dec. 7, 2015). The complaint alleges violations of section 337 of the Tariff Act of 1930, as amended (19 U.S.C. 1337), in the importation into the United States, the sale for importation, and the sale within the United States after importation of certain wearable activity tracking devices, systems, and components thereof by reason of infringement of certain claims of U.S. Patent No. 8,920,332 (“the '332 patent); U.S. Patent No. 8,868,377 (“the '377 patent); and U.S. Patent No. 9,089,760 (“the '760 patent”). The notice of investigation named the following respondents: AliphCom d/b/a Jawbone of San Francisco, California and BodyMedia, Inc. of Pittsburgh, Pennsylvania (collectively, “Jawbone”). The Office of Unfair Import Investigations (OUII) is a party to the investigation.

On July 19, 2016, the ALJ issued Order No. 24 granting a motion for summary determination that the '332 patent, the '377 patent, and the '760 patent are invalid under 35 U.S.C. 101 for being directed to ineligible subject matter, and terminated the investigation in its entirety. On August 1, 2016, Fitbit petitioned for review of the ID. On August 8, 2016, Jawbone and OUII filed oppositions to Fitbit's petition. On September 7, 2016, the Commission determined to review the ID, and on review, vacated and remanded for the ALJ to continue the investigation as to the '332 patent and the '377 patent.

On December 23, 2016, Fitbit moved unopposed to terminate the investigation in its entirety based upon withdrawal of the complaint. Fitbit indicated that Jawbone and OUII do not oppose the motion.

On January 3, 2017, the ALJ issued the subject ID (Order No. 27), granting the unopposed motion. The ALJ found that the motion complied with the requirements of Commission Rule 210.21(a)(1) (19 CFR 210.21(a)(1)) and further found that no extraordinary circumstances prohibited granting the motion. None of the parties petitioned for review of the ID.

The Commission has determined not to review the ID. This terminates the investigation.

The authority for the Commission's determination is contained in section 337 of the Tariff Act of 1930, as amended (19 U.S.C. 1337), and in Part 210 of the Commission's Rules of Practice and Procedure (19 CFR part 210).

By order of the Commission.
Issued: February 1, 2017.
Lisa R. Barton,
Secretary to the Commission.

[FR Doc. 2017-02423 Filed 2-3-17; 8:45 am]

BILLING CODE 7020-02-P